DEPARTMENT OF COMMERCE

National Oceanic and Atmospheric Administration

RIN 0648-XF45

Marine Mammals; File No. 42-1908

AGENCY: National Marine Fisheries Service (NMFS), National Oceanic and Atmospheric Administration (NOAA), Commerce.

ACTION: Notice; issuance of permit.

SUMMARY: Notice is hereby given that Mystic Aquarium, 55 Coogan Boulevard, Mystic, CT 06355 (Dr. Lisa Mazzaro, Principal Investigator) has been issued a permit to conduct research and enhancement on Steller sea lions (Eumetopias jubatus) being held in captivity and to import and export parts from all cetaceans and pinniped species (excluding walrus) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Jennifer Skidmore or Amy Sloan, (301)713-2289.

SUPPLEMENTARY INFORMATION: On June 8, 2007, notice was published in the Federal Register (72 FR 31811) that a request for a scientific research permit to take the species identified above had been submitted by the above-named organization. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Mystic Aquarium has been issued a permit to continue activities authorized under Permit No. 42-1642-03 for the following two projects: Project 1: Research and display of captive Steller sea lions including authorization (1) to import or receive a second intact adult male Steller sea lion and subsequently return this animal to its facility of origin, if necessary; and (2) to import up to nine female Steller sea lions from the Vancouver Aquarium, and to receive a “non-releasable” one year old male Steller sea lion from The Marine Mammal Center in Sausalito, California. At any one time the maximum number of adult male SSL maintained at Mystic Aquarium will be two and the number of females and pups will not exceed nine.

Project 2: Receipt, import and export of tissues from a maximum of 10,000 animals, up to 30 samples per animal per year (i.e., 5000 pinniped and 5000 cetaceans) under NMFS jurisdiction in the U.S. and abroad (i.e. worldwide). Samples will be analyzed for purposes of research on marine mammal health (e.g., nutrition, disease, immune function, environmental stressors).

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Dated: February 1, 2008.
P. Michael Payne,
Chief, Permits, Conservation and Education Division, Office of Protected Resources, National Marine Fisheries Service.

[FR Doc. E8-2281 Filed 2-6-08; 8:45 am]

BILLING CODE 3510-22-S